DEPARTMENT OF THE INTERIOR

Office of the Secretary

Privacy Act of 1974, as Amended; Amendment of an Existing System of Records

AGENCY: Department of the Interior.

ACTION: Proposed amendment of an existing system of records.

SUMMARY: The Department of Interior (DOI) is issuing public notice of its intent to amend a Departmentwide Privacy Act (PA) system of records in its inventory of records systems subject to the Privacy Act of 1974 (5 U.S.C. 552a). DOI-71, “Freedom of Information Request Files System—Interior, is being amended due to the fact that the Department is consolidating data from systems (both paper and electronic) maintained by individual bureaus and offices within DOI into a centralized electronic database. The new electronic Freedom of Information Act tracking system (EFTS) will contain information on Freedom of Information Act (FOIA) and PA requesters and their requests for records or information, appeals, and related litigation. All of the fields in the PA system of records notice, DOI-71, have been revised. This includes changing the name of the system to “DOI-71: Electronic FOIA Tracking System and FOIA Case Files—Interior,” DOI-71.

EFFECTIVE DATE: 5 U.S.C. 552a(e)(11) requires that the public be provided a 30-day period in which to comment on the agency's intended use of the information in the system of records. The Office of Management and Budget, in its Circular A-130, requires an additional 10-day period (for a total of 40 days) in which to make these comments. Any persons interested in commenting on this proposed amendment may do so by submitting comments in writing to the Departmental Privacy Act Officer, U.S. Department of the Interior, Office of the Chief Information Officer, Mail Stop (MS)-5312-Main Interior Building (MIB), 1849 C Street NW., Washington, DC 20240, or by e-mail to Marilyn_Legnini@ios.doi.gov. Comments received within 40 days of publication in the Federal Register will be considered. The system will be effective as proposed at the end of the comment period unless comments are received which would require a contrary determination. The Department will publish a revised notice if changes are made based upon a review of comments received.

FOR FURTHER INFORMATION CONTACT: Alexandra Mallus, Office of the Chief Information Officer, Office of the Secretary, by phone at 202-208-5342, by email at Alexandra_Mallus@ios.doi.gov or by mail at MS-5312-MIB, 1849 C. St. NW., Washington, DC 20240.

SUPPLEMENTARY INFORMATION: SUPPLEMENTARY INFORMATION AND PURPOSE: The Interior EFTS will contain information on individuals for the purposes of managing and processing FOIA and PA requests. This system will: (1) Enable the Department to administer the program more efficiently while ensuring requests are responded to in a more timely fashion; (2) support action on FOIA requests, appeals, and litigation; (3) ensure documents are released in a more consistent manner; (4) assist in eliminating the duplication of effort that currently exists; (5) gather information for management and reporting purposes, improving the Department's reporting capability and providing for more efficient use of manpower; and (6) improve customer service.

A copy of the system notice for DOI-71, Electronic FOIA Tracking System and FOIA Case Files—Interior, follows:

Dated: September 13, 2002.
Marilyn A. Legnini,
Privacy Act Officer, Department of Interior.

INTERIOR/DOI-71

System name:

Electronic FOIA Tracking System and FOIA Case Files—Interior, DOI-71.

Security classification:

Not classified.

System location:

(1) The electronic Freedom of Information Act tracking system (EFTS) database data and the application for the EFTS are maintained on hardware by the National Business Center (NBC), U.S. Department of the Interior (DOI), Washington, DC 20240.

(2) Records in this system (paper or electronic) are located in the offices of Bureau and Office Freedom of Information Act (FOIA) Officers and Coordinators. (For a list of DOI addresses, see the Appendix or DOI's FOIA web site at http://www.doi.gov/foia/contacts.html.)

Categories of individuals covered by the system:

Individuals or their representatives who have submitted FOIA/Privacy Act (PA) requests for records or information and administrative appeals, or have litigation pending with DOI or another Federal agency; individuals whose requests or records have been referred to the Department by other agencies; individuals who are the subject of such requests, appeals, and litigation; and/or the DOI personnel assigned to handle such requests, appeals, and litigation.

Categories of records in the system:

This system consists of records created or compiled in response to FOIA or PA requests for records or information, administrative appeals, and related litigation and includes: the original requests and administrative appeals; responses to such requests and appeals; all related memoranda, correspondence, notes, and other related or supported documentation, and in some instances copies of requested records and records under appeal.

Authority for maintenance of the system:

5 U.S.C. 552 and 5 U.S.C. 552a.

Routine uses of records maintained in the system including categories of users and the purposes of such uses:

The primary purpose of the EFTS and FOIA case files, which are maintained both electronically and in paper format, is to more efficiently manage DOI's FOIA program. This system:

(1) Enables the Department to administer the program more efficiently while ensuring requests are responded to in a more timely fashion;

(2) Supports action on FOIA requests, appeals, and litigation;

(3) Ensures documents are released in a more consistent manner;

(4) Assists in eliminating the duplication of effort that currently exists;

(5) Gathers information for management and reporting purposes, improving the Department's reporting capability and providing for more efficient use of manpower; and

(6) Improves customer service.

Disclosures outside the DOI may be made:

(1) To an expert, consultant, or contractor (including employees of the contractor) of the Department that performs, on the Department's behalf, services requiring access to these records.

(2) To other Federal, State, and local agencies having a subject matter interest in a request or an appeal or a decision thereon.

(3) To another Federal agency to assist that agency in responding to an inquiry by the individual to whom that record pertains.

(4)(a) To any of the following entities or individuals:

(i) The Department of Justice (DOJ);

(ii) A court, adjudicative or other administrative body;

(iii) A party in litigation before a court or adjudicative or administrative body;

(iv) The Department or any component of the Department;

(v) Any Department employee acting in his or her official capacity; or

(vi) Any Departmental employee acting in his or her individual capacity if the Department or the DOJ has agreed to represent that employee or pay for private representation of the employee;

(b) When

(i) One of the following is a party to the proceeding or has an interest in the proceeding:

(A) The Department or any component of the Department;

(B) Any Department employee acting in his or her official capacity;

(C) Any Departmental employee acting in his or her individual capacity if the Department or the DOJ has agreed to represent that employee or pay for private representation of the employee;

(D) the United States, when the DOJ determines that the Department is likely to be affected by the proceeding; and

(ii) The Department deems the disclosure to be:

(A) relevant and necessary to the proceeding; and

(B) Compatible with the purposes for which the records were compiled.

(5) To appropriate Federal, State, local or foreign agencies responsible for investigating or prosecuting the violation of or for enforcing or implementing a statute, rule, regulation, order or license, when the Department becomes aware of a violation or potential violation of a statute, rule, regulation, order or license.

(6) To a congressional office in response to an inquiry an individual covered by the system has made to the congressional office about him or herself.

(7) To a debt collection agency for the purpose of collecting outstanding debts owed to the Department for fees associated with processing FOIA/PA requests.

(8) To an official of another Federal agency to provide information needed in the performance of official duties related to reconciling or reconstructing data files, in support of the functions for which the records were collected and maintained.

Disclosure to consumer reporting agencies:

Pursuant to 5 U.S.C. 552a(b)12, records can be disclosed to consumer reporting agencies as they are defined in the Fair Credit Reporting Act (15 U.S.C. 1681a(f)) or the Federal Claims Collection Act of 1966 (31 U.S.C. 3701(a)(3)).

Policies and practices for storing, retrieving, accessing, retaining, and disposing of records in the system:

Storage:

Records are stored in electronic media and in paper files.

Retrievability:

Information can be retrieved by specific data elements in the system including: the FOIA number; the name of the requester and/or his/her organizational affiliation; subject; etc. Paper records are normally retrieved by case number or by the name of the person making the request.

Safeguards:

Access to records in the system is limited to authorized personnel whose official duties require such access. Paper records are maintained in locked metal file cabinets and/or in secured rooms. Electronic records are maintained in accordance with the Office of Management and Budget and Departmental guidelines reflecting the implementation of the Computer Security Act of 1987 (40 U.S.C. 759). Electronic data is protected through user identification, passwords, database permissions and software controls. Such security measures establish different access levels for different types of users.

Retention and disposal:

Records in this system are covered by General Records Schedules 14 and 20. Bureaus and offices also follow guidance on permanent and temporary records disposition issued by the National Archives and Records Administration.

System manager(s) and addresses:

(1) The Departmental FOIA Officer, Office of the Chief Information Officer, U.S. Department of the Interior, 1849 C Street, NW., MS-5312 MIB, Washington, DC 20240 has overall responsibility for the policies and procedures used to operate the system.

(2) DOI FOIA Officers and Coordinators in headquarters and in field offices have responsibility for the data input into and maintained on the EFTS for their respective organizations along with any paper records. To obtain a current list of the FOIA Officers and Coordinators and their addresses, see http://www.doi.gov/foia/contacts.html or the Appendix.

Notification procedures:

Inquiries regarding the existence of records in the EFTS or inquiries regarding the existence of paper records should be sent to the FOIA Officer or Coordinator of the Bureau or Office that maintains the FOIA records (see http://www.doi.gov/foia/contacts.html or the Appendix). All inquiries must be in writing, signed by the requester, and meet the criteria of 43 CFR 2.60.

Record access procedures:

To request access to records, follow the procedures in the “Notification procedures” section, above. The request must meet the requirements of 43 CFR 2.63. The request envelope and letter should be clearly marked either “FREEDOM OF INFORMATION ACT REQUEST FOR ACCESS” or “PRIVACY ACT REQUEST FOR ACCESS.”

Contesting record procedures:

To request an amendment of a record, follow the procedures in the “Notification procedures” section, above. The request must meet the requirements of 43 CFR 2.71.

Record Source Categories:

Information gathered in this system is submitted by individuals, agencies, or corporate entities filing FOIA/PA requests and agency employees processing these requests. Information also is taken from the following PA system of records: Freedom of Information Act Appeal Files—Interior, DOI-69; and Privacy Act Files—Interior, DOI-57.

Exemptions claimed for the system:

None.

[FR Doc. 02-23705 Filed 9-17-02; 8:45 am]

BILLING CODE 4310-RK-P